Title 3—

The President

Proclamation 7379 of November 16, 2000

National Farm-City Week, 2000

By the President of the United States of America

A Proclamation

Since our earliest days as a Nation, farmers have tilled the rich soil of this great land, feeding their families, our country, and people around the world. While America has changed from an agricultural to an industrial society, the American farm has remained a vital thread in the fabric of our national life. Farmers and ranchers exemplify the values on which our country was founded—hard work, faith, family, and devotion to community and to the land—and they have made American agriculture a leading global industry and a source of pride for our Nation.

By providing their fellow Americans with an abundant supply of safe, high-quality food and fiber, our country's farmers and ranchers help sustain a quality of life that is unmatched around the world. In this new century, their role is becoming even more important as they strive to meet the challenge of feeding the world's people while preserving our fertile land, clean water, and other precious natural resources.

Farmers and ranchers, however, do not accomplish these crucial tasks alone. Farm workers, shippers, inspectors, processors, agribusiness companies, marketers, grocers, and many others play vital roles in the extraordinary productivity of America's agricultural industry. These farm-city partnerships strengthen our free enterprise system and remind us that the talents, energy, and hard work of millions of Americans have contributed to the unprecedented prosperity we enjoy today.

This week, as we gather with our families in thanks for the bounty bestowed upon us, let us remember with gratitude the hardworking men and women in rural and urban communities who devote their lives to producing, processing, and delivering the world's safest, most abundant supply of food and fiber.

NOW, THEREFORE, I, WILLIAM J. CLINTON, President of the United States of America, by virtue of the authority vested in me by the Constitution and laws of the United States, do hereby proclaim November 17 through November 23, 2000, as National Farm-City Week. I call upon all Americans, in rural and urban communities alike, to join in recognizing the achievements of all those who work together to promote America's agricultural abundance.

IN WITNESS WHEREOF, I have hereunto set my hand this sixteenth day of November, in the year of our Lord two thousand, and of the Independence of the United States of America the two hundred and twenty-fifth.

wj

[FR Doc. 00-29955

Filed 11-20-00; 9:29 am]

Billing code 3195-01-P